DEPARTMENT OF THE INTERIOR

National Park Service

National Capital Memorial Commission; Notice of Public Meeting

AGENCY: National Park Service, Interior.

ACTION: Notice of meeting.

SUMMARY: Notice is hereby given in accordance with the Federal Advisory Committee Act that a meeting of the National Capital Memorial Commission (the Commission) will be held at 10 a.m., on Tuesday, September 24, 2002, at the National Building Museum, Room 312, 5th and F Streets, NW., Washington, DC.

The purpose of the meeting will be to discuss currently authorized and proposed memorials in the District of Columbia and environs.

In addition to discussing general matters and conducting routine business, the Commission will review the following:

Action Items

Legislative proposals introduced in the 107th Congress to establish memorials in the District of Columbia and its environs:

a. S. 281, as amended, the Vietnam Veterans Memorial Education Center (Title I), and the Commemorative Works Act Amendments (Title II).

b. H.R. 2918, a bill to establish a Native American Memorial in the District of Columbia.

c. H.R. 4964, a bill to establish a Slavery Memorial in the District of Columbia.

d. H.R. 2982, as amended, a bill to establish a Terrorist Victims Memorial.

Other Business

General matters and routine business.

The meeting will be open to the public. Any person may file with the Commission a written statement concerning the matters to be discussed. Persons who wish to file a written statement or testify at the meeting or who want further information concerning the meeting may contact Ms. Nancy Young, Secretary to the Commission, at (202) 619-7097.

DATES: The Commission is scheduled to meet on September 24, 2002.

ADDRESSES: The meeting will be held in Room 312, National Building Museum, 5th and F Streets, NW., Washington, DC 20001.

FOR FUTHER INFORMATION CONTACT: Ms. Nancy Young, Secretary to the Commission, 202-619-7097.

SUPPLEMENTARY INFORMATION: Due to unintentional mis-routing of this notice during a National Park Service move, the notice could not be published at least 15 days prior to the meeting date. The National Park Service regrets this error, but is compelled to hold the meeting as scheduled because of the significant sacrifice re-scheduling would require of commission members who have adjusted their schedules to accommodate the proposed meeting date and the high level of anticipation by all parties who will be affected by the outcome of the commission's actions. Since the proposed meeting date has received widespread publicity among the parties most affected, the National Park Service believes that the public interest will not be adversely affected by the less-than-15-days advance notice in the Federal Register. The Commission was established by Public Law 99-652, the Commemorative Works Act (40 U.S.C. 1001 et. seq), to advise the Secretary and the Administrator, General Services Administration, (the Administrator) on policy and procedures for establishment of (and proposals to establish) commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC and its environs.

The members of the Commission are as follows:

Director, National Park Service

Chairman, National Capital Planning Commission

Architect of the Capitol

Chairman, American Battle Monuments Commission

Chairman, Commission of Fine Arts

Mayor of the District of Columbia

Administrator, General Services Administration

Secretary of Defense

Dated: August 9, 2002.
P. Daniel Smith,
Special Assistant to the Director, National Park Service.

[FR Doc. 02-23373 Filed 9-12-02; 8:45 am]

BILLING CODE 4310-70-P